DEPARTMENT OF TRANSPORTATION

Federal Aviation Administration

14 CFR Part 71

[Docket No. FAA-2004-17616; Airspace Docket No. 04-ASO-6]

Amendment of Class E Airspace; Dayton, TN

AGENCY: Federal Aviation Administration (FAA), DOT.

ACTION: Final rule.

SUMMARY: This action amends Class E5 airspace at Dayton, TN. As a result of an evaluation, it has been determined a modification should be made to the Dayton, TN, Class E5 airspace area to contain the Nondirectional Radio Beacon (NDB) Runway 3, Standard Instrument Approach Procedure (SIAP) to Hardwick Field Airport, Cleveland, TN. Additional controlled airspace extending upward from 700 feet Above Ground Level (AGL) is needed to contain the SIAP.

DATES: 0901 UTC, September 30, 2004.

FOR FURTHER INFORMATION CONTACT: Walter R. Cochran, Manager, Airspace Branch, Air Traffic Division, Federal Aviation Administration, P.O. Box 20636, Atlanta, Georgia 30320, telephone (404) 305-5627.

SUPPLEMENTARY INFORMATION:

History

On May 19, 2004, the FAA proposed to amend part 71 of the Federal Aviation Regulations (14 CFR part 71) by amending Class E5 airspace at Dayton, TN, (69 FR 28870). This action provides adequate Class E5 airspace for IFR operations at Cleveland, TN, Hardwick Field Airport. Designations for Class E are published in FAA Order 7400.9L, dated September 2, 2003, and effective September 16, 2003, which is incorporated by reference in 14 CFR part 71.1. The Class E designations listed in this document will be published subsequently in the Order.

Interested parties were invited to participate in this rulemaking proceeding by submitting written comments on the proposal to the FAA. No comments objecting to the proposal were received.

The Rule

This amendment to part 71 of the Federal Aviation Regulations (14 CFR part 71) amends Class E5 airspace at Dayton, TN.

The FAA has determined that this proposed regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Adoption of the Amendment

In consideration of the foregoing, the Federal Aviation Administration proposes to amend 14 CFR Part 71 as follows:

PART 71—DESIGNATION OF CLASS A, CLASS B, CLASS C, CLASS D, AND CLASS E AIRSPACE AREAS; AIRWAYS; ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9L, Airspace Designations and Reporting Points, dated September 2, 2003, and effective September 16, 2003, is amended as follows:

Paragraph 6005 Class E airspace areas extending upward from 700 feet or more above the surface of the earth.

* * * * *

ASO TN E5 Dayton, TN [Revised]

Dayton, Mark Anton Airport, TN

(Lat. 35°29″10′ N, long. 84°55″52′ W)

Hardwick Field Airport

(Lat. 35°13″12′ N, long. 84°55″57′ W)

Hardwick NDB

(Lat. 35°09″13′ N, long. 84°54″21′ W)

Bledsoe County Hospital, Pikeville, TN

Point in Space Coordinates

(Lat. 35°37″34′ N, long. 85°10″38′ W)

Bradley Memorial Hospital, Cleveland, TN

Point in Space Coordinates

(Lat. 35°10″52′ N, long. 84°52″56′ W)

That airspace extending upward from 700 feet above the surface within a 12.5-mile radius of Mark Anton Airport, and that airspace with a 6.5-mile radius of Hardwich Field Airport and within 3.5 miles northwest and 5.3 miles southeast of the 224° bearing from the HDI NDB extending from the 6.5-mile radius to 10 miles southwest of the NDB, and that airspace with a 6-mile radius of the point in space (lat. 35°″34′ N, long. 85°10″38′ W) serving Bledsoe County Hospital, Pikeville, TN, and that airspace within a 6-mile radius of the point in space (lat. 35°10″52′ N, long. 84°52″56′ W) serving Bradley Memorial Hospital, Cleveland, TN; excluding that airspace within the CHA Class C airspace area and that airspace within the Athens, TN, Class E airspace area.

* * * * *

Issued in College Park, Georgia, June 23, 2004.
Richard E. Biscomb,
Acting Manager, Air Traffic Division, Southern Region.

[FR Doc. 04-15554 Filed 7-7 -04; 8:45 am]

BILLING CODE 4910-13-M